DEPARTMENT OF LABOR

Office of the Secretary

Submission for OMB Review; Comment Request

January 28, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or e-mail King-Darrin@dol.gov.

Comments should be sent to Office of Information and Regulatory Affairs, Attn: OMB Desk Officer for DOL, Office of Management and Budget, Room 10235, Washington, DC 20503 (202) 395-7316), within 30 days from the date of this publication in the Federal Register.

The OMB is particularly interested in comments which:

• Evaluate whether the proposed collection of information is necessary for the proper performance of the functions of the agency, including whether the information will have practical-utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of the Assistant Secretary for Administration and Management (OASAM).

Type of Review: New collection.

Title: Survey on Ensuring Equal Opportunity for Applicants.

OMB Number: 1225-0NEW.

Affected Public: Not-for-profit-institutions.

Frequency: On occasion.

Type of Response: Reporting.

Number of Respondents: 1,000.

Number of Annual Responses: 1,000.

Estimated Time Per Response: 5 minutes.

Total Burden Hours: 80.

Total Annualized Capital/Startup Costs: $0.

Total Annual Costs (operating/maintaining systems or purchasing services): $0.

Description: This data collection is necessary to fulfill the mandate of Executive Orders 13198 and 13199 dated January 29, 2001. These Executive Orders require the removal of barriers to the full participation of faith-based and community organizations in federal social service programs. This data collection will provide the data to determine the level of faith-based and community participation in the DOL grant programs. The data collected on this form is identical to that collected on OMB number 1890-0014 which has been approved by the Office of Management and Budget for use government-wide.

Ira L. Mills,
Departmental Clearance Officer.

[FR Doc. 03-2722 Filed 2-4-03; 8:45 am]

BILLING CODE 4510-23-M